DEPARTMENT OF TRANSPORTATION

National Highway Traffic Safety Administration

[Docket No. NHTSA-2023-0065]

Agency Information Collection Activities; Notice and Request for Comment; Crash Injury Research and Engineering Network Data Collection

AGENCY: National Highway Traffic Safety Administration (NHTSA), Department of Transportation (DOT).

ACTION: Notice and request for comments on a request for approval of a new information collection.

SUMMARY: The National Highway Traffic Safety Administration (NHTSA) invites public comments about our intention to request approval from the Office of Management and Budget (OMB) for a new information collection. Before a Federal agency can collect certain information from the public, it must receive approval from OMB. Under procedures established by the Paperwork Reduction Act of 1995, before seeking OMB approval, Federal agencies must solicit public comment on proposed collections of information, including extensions and reinstatement of previously approved collections. This document describes NHTSA's Crash Injury Research and Engineering Network (CIREN) investigation-based crash data study for which it is seeking OMB approval.

DATES: Comments must be submitted on or before February 6, 2024.

ADDRESSES: You may submit comments identified by the Docket No. NHTSA-2023-0065 through any of the following methods:

• Electronic submissions: Go to the Federal eRulemaking Portal at http://www.regulations.gov . Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to http://www.regulations.gov or the street address listed above. Follow the online instructions for accessing the dockets via internet.

FOR FURTHER INFORMATION CONTACT: For additional information or access to background documents, contact Rodney Rudd, Office of Vehicle Safety Research, Human Injury Research Division (NSR-220), West Building, W46-324, 1200 New Jersey Avenue SE, Washington, DC 20590.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g. permitting electronic submission of responses. In compliance with these requirements, NHTSA asks for public comments on the following proposed collection of information for which the agency is seeking approval from OMB.

Title: Crash Injury Research and Engineering Network (CIREN) Data Collection.

OMB Control Number: New.

Form Number(s): TBD.

Type of Request: Request for approval of a new information collection.

Type of Review Requested: Regular.

Requested Expiration Date of Approval: Three years from date of approval.

Summary of the Collection of Information:

The National Highway Traffic Safety Administration (NHTSA) is seeking approval from OMB of this information collection request (ICR) for a new, independent information collection for an investigation-based crash data acquisition system which was previously included under OMB Control Number 2127-0706. NHTSA proposes to collect information from the public as part of a study to improve NHTSA's understanding of injury causation in motor vehicle crashes. NHTSA is authorized, under 49 U.S.C. 30182 and 23 U.S.C. 403 to collect data on motor vehicle traffic crashes to aid in the identification of issues and the development, implementation, and evaluation of motor vehicle and highway safety countermeasures. For decades, NHTSA has been investigating crashes and collecting crash data through its investigation-based data collection systems. The Crash Injury Research and Engineering Network (CIREN) is a multidisciplinary, injury-focused crash data collection program using trauma centers under contract to NHTSA's Office of Vehicle Safety Research. NHTSA also investigates crashes through the Crash Investigation Sampling System (CISS), Special Crash Investigation (SCI), and specific issue-based Special Study data collection studies. Although each of these systems satisfy different purposes and collect data in different manners, they all utilize similar core data elements, procedures, information technology, and protocols for data collection.¹

¹ Additional details about the CISS, SCI, and Special Study data collections are available in the supporting statements for the ICR with OMB Control Number 2127-0706.

NHTSA is seeking approval for a new, independent information collection request for the CIREN program separate from NHTSA's other investigation-based crash data collection systems. The method of case subject identification and selection is unique for CIREN. CIREN collects a purposive sample of injured traffic crash victims from a small number of sites to extensively examine and document injury causation in motor vehicle crashes. The CIREN program enrolls case subjects (crash victims) who have been admitted to eight contracted level-one trauma centers for treatment of injuries sustained in crashes and consent to participate in the study. The collection facilitates detailed review and analysis of medical and engineering data by multidisciplinary teams to evaluate injury causation. The focus of the CIREN program has historically been on seriously-injured occupants of recent model-year motor vehicles, though the program intends to expand to include pedestrians, pedalcyclists, and micromobility (non-motorist) users who have been injured in crashes.

Study personnel at each of the eight contracted CIREN sites review trauma registry data to identify potential case subjects based on the study's inclusion criteria. Study teams obtain informed consent from eligible patients according to institutional policies and consent documents. No data is collected from eligible patients who do not provide consent to participate in the study. Participation in CIREN does not affect the case subject's medical treatment. Observations from the CIREN program inform NHTSA research priorities and the data support improvements in motor vehicle safety. CIREN provides non-private data to the public through an online case viewer, database files, and reports.

After an eligible patient provides consent, study personnel retrieve the case subject's medical information and commence the crash investigation. Study personnel retrieve the medical information directly from the hospital's electronic medical record (EMR) system including case subject anthropometry, past medical history, radiological imaging and reports, operative procedure reports, and injury diagnoses. They also request emergency medical services (EMS) response reports from first responders. Study personnel also conduct an interview with the case subject (or a surrogate in cases where the case subject is unable to communicate) to develop an understanding about the crash circumstances. A trained crash investigator locates, visits, measures, and photographs the crash scene and the case subject's vehicle (or the striking vehicle for non-motorist case subjects). They also obtain the police crash report. These data are used to characterize the performance of vehicle safety systems and biomechanical responses of injured individuals in motor vehicle crashes.

Description of the Need for the Information and Proposed Use of the Information: NHTSA investigates real-world crashes and collects detailed crash and medical data in the CIREN program to identify human and vehicle factors related to injury causation in support of NHTSA research. Biomechanical engineers and medical doctors collaboratively review case evidence to establish injury causation scenarios. These detailed factors and scenarios inform research priorities. They may also guide the development and evaluation of effective safety countermeasures such as testing tools and criteria. The data collected also act as a sentinel, providing NHTSA with advanced notice of emerging crash injury problems, and are used to generate research hypotheses. These efforts give motor vehicle researchers an opportunity to specify areas in which improvements may be possible, design countermeasure programs, and evaluate the effects of existing and proposed safety measures. The resulting deidentified database provides NHTSA and the public with access to crash data which contains extensive medical detail, including medical imaging, which is a unique resource among available crash data systems. There is no other source for the biomechanics-focused data which is critical to support crash injury mitigation and prevention research.

Affected Public: People involved in select motor vehicle crashes admitted to contracted trauma centers for treatment; law enforcement jurisdictions that provide access to and a copy of crash reports from the investigated crashes; EMS providers responding to investigated crashes, and tow or salvage facilities that provide access for inspections of involved vehicles.

Estimated Number of Respondents: 1,136.

Study personnel screen trauma records for potentially eligible case subjects, and then approach potential case subjects to gain consent. It is estimated that 362 potential case subjects are approached for consent each year. Of those, an average of 258 provide consent and participate in the interview process. For each of the 258 consented case subjects, study personnel contact the police, EMS agencies, and a tow facility for report documentation and to coordinate the vehicle inspection. The combination of patients (362) and associated contacts (3 × 258) yields 1,136 total respondents each year, on average.

Frequency: On occasion.

Estimated Total Annual Burden Hours: 499 hours.

The CIREN program consists of four (4) information collections. The first information collection covers the consent process for individuals involved in crashes who are deemed potentially eligible for the study at contracted trauma centers. Based on historical data, approximately 362 potential case subjects are approached for study consent each year. The consent process generally requires thirty (30) minutes of the respondent's time during their acute hospital admission, which includes explanation of the study risks and benefits and review of consent language. This burden would apply for every patient approached for consent, regardless of their decision to participate in the study. The estimated total annual burden hours for seeking study consent from eligible case subjects is 181 hours (362 respondents × 0.5 hours).

The second information collection is from individuals who agree to participate in the study. After providing consent, CIREN contractor personnel conduct an interview that requires approximately one hour of the respondent's time during their acute hospital admission. The CIREN program has historically conducted interviews of approximately 258 case subjects per year. Therefore, the estimated total annual burden for case subject interviews is 258 hours (258 respondents × 1.0 hour).

The third information collection for CIREN is obtaining first responder reports to complete the cases. The reports are obtained from police and EMS agencies, and reports are only requested for crash subjects who have consented to participate in the study. NHTSA estimates each query to police agencies takes three (3) minutes (0.05 hours) and each query to EMS agencies takes six (6) minutes (0.1 hours). Therefore, the total estimated annual burden for crash and EMS reports is 39 hours (258 requests × (0.05 hours + 0.1 hours)).

The fourth information collection for CIREN is associated with towing and salvage facility requests for access to case vehicles. Typically, a towing or salvage facility operator will provide the crash investigator permission to enter the facility to inspect the case-involved vehicle as well as provide guidance regarding the location of the vehicle. This process is estimated to take approximately five (5) minutes (0.08 hours) of staff time. CIREN averages 258 visits to towing and salvage facilities each year since most CIREN cases involve inspection of one case vehicle. The total annual burden for towing and salvage facilities is 21 hours (258 requests × 0.083 hours).

Information collection | Number of respondents | Number of responses (per respondent) | Burden per response | Burden per respondent | Total burden (hours)
Potential case subject consent | 362 | 362 (1) | 30 minutes | 30 minutes | 181
Case subject interview | 258 | 258 (1) | 1.0 hours | 1.0 hours | 258
Police report requests | 258 | 258 (1) | 3 minutes | 3 minutes | 13
EMS report requests | 258 | 258 (1) | 6 minutes | 6 minutes | 26
Access to towing/salvage facility | 258 | 258 (1) | 5 minutes | 5 minutes | 21
Total |  |  |  |  | 499

Accordingly, NHTSA estimates that the total burden associated with the CIREN program is 499 hours (181 + 258 + 39 + 21).

Estimated Total Annual Burden Cost: $0.

There are no capital, start-up, or annual operation and maintenance costs involved in this collection of information. The respondents would not incur any reporting costs from the information collection beyond the opportunity or labor costs associated with the burden hours. The respondents also would not incur any recordkeeping burden or recordkeeping costs from the information collection. Therefore, NHTSA estimates that there will be no annual burden cost to respondents.

Public Comments Invited: You are asked to comment on any aspects of this information collection, including (a) whether the proposed collection of information is necessary for the proper performance of the functions of the Department, including whether the information will have practical utility; (b) the accuracy of the Department's estimate of the burden of the proposed information collection; (c) ways to enhance the quality, utility and clarity of the information to be collected; and (d) ways to minimize the burden of the collection of information on respondents, including the use of automated collection techniques or other forms of information technology.

Authority: The Paperwork Reduction Act of 1995; 44 U.S.C. chapter 35, as amended; 49 CFR 1.49; and DOT Order 1351.29A.

Cem Hatipoglu,
Associate Administrator, Office of Vehicle Safety Research.

[FR Doc. 2023-27006 Filed 12-7-23; 8:45 am]

BILLING CODE 4910-59-P